DEPARTMENT OF TRANSPORTATION

Surface Transportation Board

Information Collection Activities: Statutory Licensing and Consolidation Authority

AGENCY: Surface Transportation Board, DOT.

ACTION: 30-day notice and request for comments.

SUMMARY: As part of its continuing effort to reduce paperwork burdens, and as required by the Paperwork Reduction Act of 1995, 44 U.S.C. 3501-3519 (PRA), the Surface Transportation Board (Board) gives notice that it is requesting from the Office of Management and Budget (OMB) approval of an extension of the information collection—Statutory Licensing and Consolidation Authority—further described below. The Board previously published a notice about this collection in the Federal Register. 80 FR 38,508 (July 6, 2015). That notice allowed for a 60-day public review and comment period. One comment was received and is addressed in the agency's submission to OMB as part of this approval process.

Under 49 U.S.C. 10901-03 and §§ 11323-26, rail carriers and non-carriers are required to file an application with the Board, or seek an exemption (through petition or notice) from the full application process under § 10502, before they may construct, acquire, or operate a line of railroad; abandon or discontinue operations over a line of railroad; or consolidate their interests through a merger or common-control arrangement. (The relevant information collections are described in more detail below.)

Comments are requested concerning: (1) The accuracy of the Board's burden estimates; (2) ways to enhance the quality, utility, and clarity of the information collected; (3) ways to minimize the burden of the collection of information on the respondents, including the use of automated collection techniques or other forms of information technology, when appropriate; and (4) whether the collection of information is necessary for the proper performance of the functions of the Board, including whether the collection has practical utility.

Description of Collections

Title: Statutory Licensing and Consolidation Authority.

OMB Control Number: 2140-0023.

STB Form Number: None.

Type of Review: Extension without change.

Respondents: Rail carriers and non-carriers seeking statutory licensing or consolidation authority or an exemption from filing an application for such authority.

Number of Respondents: 74.¹

¹ Approximately 40% of the filings were additional filings submitted by railroads that had already submitted filings during the time period. Therefore, the number of respondents (74) is approximately 40% less than the number of filings (123).

Frequency: On occasion.

Table—Number of Responses in FY 2011
Type of filing | Number of filings under 49 U.S.C. 10901-03 and 11323-26
Applications | 2
Petitions* | 18
Notices* | 103
* Under § 10502, petitions for exemption and notices of exemption are permitted in lieu of an application.

Total Burden Hours (annually including all respondents): 4,049 hours (sum total of estimated hours per response × number of responses for each type of filing).

Table—Estimated Hours per Response
Type of filing | Number of hours per response under 49 U.S.C. 10901-03 and 11323-26
Applications | 524
Petitions | 58
Notices | 19

Total Annual “Non-hour Burden” Cost: Approximately $1,537.50 (sum total of the cost per response × number of responses for each type of filing). Filings are submitted electronically to the Board; so there is no cost for filing with the Board. However, respondents are sometimes required, as part of this collection, to send letters to certain governmental agencies notifying them of the proposed action being sought before the Board. (Copies of these letters are part of an environmental and historic report that is sometimes required as part of this collection.) Because some of these agencies may require hard copy letters, there may be some limited mailing costs, which we have estimated at approximately $12.50 per response.

Needs and Uses: Under the Interstate Commerce Act, as amended by the ICC Termination Act of 1995, Public Law 104-88, 109 Stat. 803 (1995), persons seeking to construct, acquire or operate a line of railroad and railroads seeking to abandon or to discontinue operations over a line of railroad or, in the case of two or more railroads, to consolidate their interests through merger or a common-control arrangement are required to file an application for prior approval and authority with the Board. See 49 U.S.C. 10901-03 and 11323-26. Under 49 U.S.C. 10502, persons may seek an exemption from many of the application requirements of §§ 10901-03 and 11323-26 by filing with the Board a petition for exemption or notice of exemption in lieu of an application. The collection by the Board of these applications, petitions, and notices enables the Board to meet its statutory duty to regulate the referenced rail transactions. See Table—Statutory and Regulatory Provisions below.

Retention Period: Information in these collections is maintained by the Board for ten years, after which it is transferred to the National Archives as permanent records.

DATES: Comments on this information collection should be submitted by October 8, 2015.

ADDRESSES: Written comments should be identified as “Paperwork Reduction Act Comments, Surface Transportation Board, Statutory Licensing and Consolidation Authority.” These comments should be directed to the Office of Management and Budget, Office of Information and Regulatory Affairs, Attention: Chandana L. Achanta, Surface Transportation Board Desk Officer, by email at OIRA_SUBMISSION@OMB.EOP.GOV; by fax at (202) 395-6974; or by mail to Room 10235, 725 17th Street NW., Washington, DC 20503.

FOR FURTHER INFORMATION CONTACT: For further information regarding the Statutory Licensing and Consolidation Authority, contact Chris Oehrle, Surface Transportation Board, via mail at 395 E Street SW., Washington, DC 20423-0001, telephone at (202) 245-0271, or email at PRA@stb.dot.gov. [Federal Information Relay Service (FIRS) for the hearing impaired: (800) 877-8339.]

SUPPLEMENTARY INFORMATION: Under §§ 10901-03 and 11323-26, an application must be filed to seek authority under these sections, but an applicant may file a petition or notice pursuant to an exemption under 49 U.S.C. 10502. Respondents seeking authority from the Board under these provisions must submit certain information required under the Board's related regulations. The table below shows the statutory and regulatory provisions under which the Board requires the information collections that are the subject of this notice.

Table—Statutory and Regulatory Provisions*
Certificate required | Statutory provision | Regulations
Construct, Acquire, or Operate Railroad Lines | 49 U.S.C. 10901 | 49 CFR pt. 1150.
Short Line purchases by Class II and Class III Rail Carriers | 49 U.S.C. 10902 | 49 CFR 1150.41-45.
Abandonments and Discontinuances | 49 U.S.C. 10903 | 49 CFR pt. 1152.
Railroad Acquisitions, Trackage Rights, and Leases | 49 U.S.C. 11323-26 | 49 CFR pt. 1180.
* STB regulations may be viewed on the STB Web site under E-Library > Reference: STB Rules (http://www.stb.dot.gov/stb/elibrary/ref_stbrules.html).

Under the PRA, a federal agency conducting or sponsoring a collection of information must display a currently valid OMB control number. A collection of information, which is defined in 44 U.S.C. 3502(3) and 5 CFR 1320.3(c), includes agency requirements or requests that persons submit reports, keep records, or provide information to the agency, third parties, or the public. Section 3507(b) of the PRA requires, concurrent with an agency's submitting a collection to OMB for approval, a 30-day notice and comment period through publication in the Federal Register concerning each proposed collection of information, including each proposed extension of an existing collection of information.

Dated: September 2, 2015.
Jeffrey Herzig,
Clearance Clerk.

[FR Doc. 2015-22521 Filed 9-4-15; 8:45 am]

BILLING CODE 4915-01-P